DEPARTMENT OF HOMELAND SECURITY

Coast Guard

33 CFR Part 100

[Docket No. USCG-2016-0714]

Special Local Regulations; Ironman 70.3 Augusta Triathlon, Savannah River

AGENCY: Coast Guard, DHS.

ACTION: Notice of enforcement of regulation.

SUMMARY: The Coast Guard will enforce the Ironman 70.3 Augusta Triathlon, Savannah River, Special Local Regulation from 7 a.m. through 11 a.m. on September 25, 2016. This action is necessary to ensure safety of life on navigable waterways of the United States during this event. During the enforcement period, and in accordance with previously issued special local regulations, vessels may not enter, transit through, anchor in, remain within the designated area unless authorized by the Captain of the Port (COTP) Savannah or a designated representative.

DATES: The regulation in 33 CFR 100.701, Table to § 100.71, Item (f)3 will be enforced from 7 a.m. through 11 a.m. on September 25, 2016.

FOR FURTHER INFORMATION CONTACT: If you have questions about this notice of enforcement, call or email MST1 Cliffton Hendry, Marine Safety Unit Savannah Office of Waterways Management, Coast Guard; telephone 912-652-4353, extension 243, or email Cliffton.R.Hendry@uscg.mil.

SUPPLEMENTARY INFORMATION: The Coast Guard will enforce the special local regulation for the Ironman 70.3 Augusta Triathlon, Savannah River, in 33 CFR 100.701 from 7 a.m. through 11 a.m. on September 25, 2016.

This action is to provide enforcement action of the regulated area that will encompass portions of the navigable waterways. The location of the regulated area for this 1.2 mile long swim course, as stated in the latitude/longitude figures in 33 CFR 100.701, Table to § 100.701, Item (f)3, begins at the 5th Street Marina in Augusta, GA, and proceeds downriver to The Boathouse, 101 Riverfront Drive, Augusta, GA. Under the provisions of 33 CFR 100.701, all persons and vessels are prohibited from entering the regulated areas unless permission to enter has been granted by the COTP or designated representatives.

This notice of enforcement is issued under authority of 33 CFR 100.701 and 5 U.S.C. 552 (a). The Coast Guard will provide notice of the regulated areas by Local Notice to Mariners, Broadcast Notice to Mariners, and on-scene designated representatives. If the COTP Savannah determines that the regulated area need not be enforced for the full duration stated in this publication, he or she may use a Broadcast Notice to Mariners to grant general permission to enter the regulated area.

Dated: September 1, 2016.
A.M. Beach,
Commander, U.S. Coast Guard, Captain of the Port, Savannah.

[FR Doc. 2016-22356 Filed 9-15-16; 8:45 am]

BILLING CODE 9110-04-P